DEPARTMENT OF TRANSPORTATION

Federal Transit Administration

[FTA Docket No. 2009-0027]

Notice of Request for Information Collection

AGENCY: Federal Transit Administration (FTA), DOT.

ACTION: Notice of Request for Comments.

SUMMARY: In accordance with the Paperwork Reduction Act of 1995, this notice announces the intention of the Federal Transit Administration (FTA) to request the Office of Management and Budget (OMB) to approve a new information collection:

49 U.S.C. Section 5339—Alternatives Analysis Program.

DATES: Comments must be submitted before July 13, 2009.

ADDRESSES: To ensure that your comments are not entered more than once into the docket, submit comments identified by the docket number by only one of the following methods:

1. Web site: http://www.regulations.gov. Follow the instructions for submitting comments on the U.S. Government electronic docket site. (Note: The U.S. Department of Transportation's (DOT's) electronic docket is no longer accepting electronic comments.) All electronic submissions must be made to the U.S. Government electronic docket site at http://www.regulations.gov. Commenters should follow the directions below for mailed and hand-delivered comments.

2. Fax: Office of Program Management 202-366-7951.

3. Mail: U.S. Department of Transportation, 1200 New Jersey Avenue, SE., Docket Operations, M-30, West Building, Ground Floor, Room W12-140, Washington, DC 20590-0001.

4. Hand Delivery: U.S. Department of Transportation, 1200 New Jersey Avenue, SE., Docket Operations, M-30, West Building, Ground Floor, Room W12-140, Washington, DC 20590-0001 between 9 a.m. and 5 p.m., Monday through Friday, except Federal holidays.

Instructions: You must include the agency name and docket number for this notice at the beginning of your comments. Submit two copies of your comments if you submit them by mail. For confirmation that FTA has received your comments, include a self-addressed stamped postcard. Note that all comments received, including any personal information, will be posted and will be available to Internet users, without change, to http://www.regulations.gov. You may review DOT's complete Privacy Act Statement in the Federal Register published April 11, 2000, (65 FR 19477), or you may visit http://www.regulations.gov.

Docket: For access to the docket to read background documents and comments received, go to http://www.regulations.gov at any time. Background documents and comments received may also be viewed at the U.S. Department of Transportation, 1200 New Jersey Avenue, SE., Docket Operations, M-30, West Building, Ground Floor, Room W12-140, Washington, DC 20590-0001 between 9 a.m. and 5 p.m., Monday through Friday, except Federal holidays.

FOR FURTHER INFORMATION CONTACT: Mr. Juan Morrison, FTA Office of Program Management (202) 366-2053 or e-mail: Juan.Morrison@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: 49 U.S.C. Section 5339—Alternatives Analysis Program (OMB Number: 2132-NEW).

Background: Under Section 3037 of the Safe, Accountable, Flexible, Efficient Transportation Act—A Legacy for Users (SAFETEA-LU), the Alternatives Analysis Program (49 U.S.C. 5339) provides grants to States, authorities of the States, metropolitan planning organizations, and local government authorities to develop studies as part of the transportation planning process. The purpose of the Alternatives Analysis Program is to assist in financing the evaluation of all reasonable modal and multimodal alternatives and general alignment options for identified transportation needs in a particular, broadly defined travel corridor. The transportation planning process of Alternatives Analysis includes an assessment of a wide range of public transportation or multimodal alternatives, which will address transportation problems within a corridor or subarea; provides ample information to enable the Secretary to make the findings of project justification and local financial commitment; supports the selection of a locally preferred alternative; and enables the local Metropolitan Planning Organization to adopt the locally preferred alternative as part of the long-range transportation plan. FTA intends to evaluate program implementation by collecting information such as project milestones and financial status reports.

Respondents: State and local government and Metropolitan Planning Organizations.

Estimated Annual Burden on Respondents: 28 hours for each of the respondents.

Estimated Total Annual Burden: 840 hours.

Frequency: Annual.

Issued: May 7, 2009.
Ann M. Linnertz,
Associate Administrator for Administration.

[FR Doc. E9-11141 Filed 5-12-09; 8:45 am]

BILLING CODE 4910-57-P